COMMITTEE FOR PURCHASE FROM PEOPLE WHO ARE BLIND OR SEVERELY DISABLED

Agency Information Collection Activities: Proposals, Submissions, and Approvals

AGENCY: Committee for Purchase From People Who Are Blind or Severely Disabled.

ACTION: Notice of information collection; request for comment.

SUMMARY: The Committee for Purchase From People Who Are Blind or Severely Disabled operates as the U.S. AbilityOne Commission (Commission). This notice announces the Commission's intent to submit the Information Collection Request (“ICR”) described below to the Office of Management and Budget (OMB) for approval under applicable provisions of the Paperwork Reduction Act. This notice provides an opportunity to interested members of the public and affected agencies to comment on a proposed Nonprofit Agency (NPA) AbilityOne Representations and Certifications (ARC) form.

DATES: Submit comments on or before July 1, 2024.

ADDRESSES: Submit comments to www.regulations.gov.

FOR FURTHER INFORMATION CONTACT: Christopher Stewart, Compliance and Enforcement Attorney, Office of General Counsel, U.S. AbilityOne Commission, 355 E Street SW, Suite 325, Washington, DC 20024; telephone: (703) 254-6172; email: cstewart@abilityone.gov. If you are deaf, hard of hearing, or have a speech disability and wish to access telecommunications relay services, please dial 7-1-1.

SUPPLEMENTARY INFORMATION: Overview of ICR: This notice pertains to an ICR the Commission intends to submit to OMB for approval of an updated form that an AbilityOne NPA will submit annually regarding its AbilityOne Program performance. This is a revision of an existing form that is submitted on an annual reporting cycle. This ICR is consistent with OMB regulations at 5 CFR part 1320, which implement provisions of the Paperwork Reduction Act of 1995 (44 U.S.C. 3501 et seq.). These regulations require the Commission to provide an opportunity for interested members of the public and affected agencies to comment on information collection and recordkeeping activities (see 5 CFR 1320.8(d)), such as those proposed to be implemented through this updated form.

The Commission is responsible for implementing the Javits-Wagner-O'Day (JWOD) Act, 41 U.S.C. 8501-8506. In doing so, the Commission oversees the AbilityOne Program (Program), a program in which individuals who are blind or have significant disabilities provide products and services to Federal agencies, thereby creating employment opportunities for such individuals. The Commission maintains a Procurement List of mandatory source products and services provided by approximately 400 qualified nonprofit agencies (NPAs). Individuals who are working on AbilityOne contracts and counted towards the direct labor hour ratio mandated by the JWOD Act are called “participating employees.”

The implementing regulations for the JWOD Act, located at 41 CFR chapter 51, provide the program's requirements, procedures, and standards. Section 51-4.3 of the regulations sets forth the requirements that an NPA must meet to maintain qualification for participation in the Program. Under this section of the regulations, an NPA must submit a completed copy of the appropriate Annual Certification form. This documentation helps the Commission determine whether the NPA is meeting the qualification requirements of the Program. The Commission has also published policies regarding compliance expectations of the NPAs. This information collection request seeks approval for the Commission to update its collection of information necessary to verify an NPA's compliance with Program requirements, as well as regarding an NPA's effective performance in meeting the mission of the Program. To ensure consistency with the Commission's modernization of the Program, the updated form will collect information on employment benefits offered to participating employees, aggregate data regarding employment mobility outcomes achieved by participating employees, and the prevalence of subcontracting that contributes to workplace integration and employee career development for participating employees.

The proposed updated ARC is available at www.abilityone.gov.

The ARC will be required annually at the Federal fiscal year-end. The form will be completed and submitted electronically.

The updated form is expected to provide a net reduction in the time burden for NPAs and to result in greater efficiency and cost savings in the oversight process.

The estimated time burden for the existing form is 8 hours. The Commission estimates that the updated form will require 5 hours to complete.

The existing form requires 33 yes/no/not applicable responses to questions about the NPA's AbilityOne Program qualification standing, and these questions require that attachments be provided to explain certain responses to these questions. The existing form also includes seven data tables to be completed, with more than 60 rows of data.

The proposed new form limits qualification standing responses to 10, comprised of five yes/no/not applicable responses, with only two questions directing further explanation or an attachment, as well as one multiple choice question and four open text field questions. The proposed new form contains one less data table than the existing form and requires fewer than 30 rows of data to be completed. The Commission proposes two related forms for electronic completion, which should enable auto-calculation of certain data fields required by this proposed form, further streamlining the process to complete the proposed form. In total, the existing form requires 132 mandatory responses and requires additional (conditional) explanations to 33 questions. The proposed new form requires fewer than 80 mandatory responses and approximately 65 conditional responses. The Commission does not expect the NPAs preparing this form to answer “yes” to every question that involves a conditional response. The Commission has also designed the new proposed form with check boxes where possible, to make preparation of the form more efficient.

To calculate the cost burden for the average annual burden, the Commission used national average pay data from the U.S. Bureau of Labor Statistics, using the May 2023 National Occupational Employment and Wage Estimate of $30.88 as the median hourly wage for a Human Resources Specialist (OC 13-1070) to fill out the form and a median principal officer hourly wage from the 990 Forms filed by a sampling of NPAs for the NPA principal officer to review and sign the form. (https://www.bls.gov/oes/current/oes_nat.htm#11-0000.)

The table below represents the time and cost burden the Commission estimates this form will necessitate.

NPA positions | Annual form time burden (hours) | Cost estimate for annual time burden on employees | Annual form cost burden on all NPAs
HR Specialist | 4 | $123.52 (for 4 hours) | $49,408
Principal Officer | 1 | $384.60 (for 1 hour) | 153,840

Total Cost Burden: $203,248.

With respect to this collection of information via the proposed form, the Commission welcomes comments on the following:

• The necessity to collect this information to support the Commission's mission and oversight responsibilities;

• Methodology to improve the accuracy of the estimated time burden;

• Suggestions or methods to minimize the burdens associated with collecting the information described in this ICR.

• The proposed form is viewable at www.abilityone.gov.

Michael R. Jurkowski,
Director, Business Operations.

[FR Doc. 2024-09706 Filed 5-2-24; 8:45 am]

BILLING CODE 6353-01-P